DEPARTMENT OF THE INTERIOR

National Park Service

Urban Park and Recreation Recovery Program Project Performance Reports, Conversion of Use Provisions, and Grant Agreements and Amendments

AGENCY: National Park Service, Interior.

ACTION: Notice and request for comments.

SUMMARY: In compliance with the Paperwork Reduction Act of 1995, we (National Park Service, NPS) have sent three interrelated Information Collection Requests (ICRs) to OMB for renewal (OMB Control Numbers 1024-0028, 1024-0048, and 1024-0089). We summarize each ICR below and describe the nature of the collection and the estimated burden. These ICRs are scheduled to expire on August 31, 2010. We may not conduct or sponsor and a person is not required to respond to a collection of information unless it displays a currently valid OMB control number. However, under OMB regulations, we may continue to conduct or sponsor this information collection while it is pending at OMB.

DATES: Submit comments on any or all of these ICRs on or before September 13, 2010.

ADDRESSES: Send your comments and suggestions on these ICRs to the Desk Officer for the Department of the Interior at OMB-OIRA at (202) 395-5806 (fax) or OIRA_DOCKET@OMB.eop.gov (e-mail). Please provide a copy of your comments to Cartina Miller, Information Collection Clearance Officer, National Park Service, at 202-371-2049 (fax) or Cartina_Miller@nps.gov (e-mail). Please specify the appropriate OMB control number(s) in the subject line of your comment.

FOR FURTHER INFORMATION CONTACT: Laurie Heupel, Outdoor Recreation Planner, State and Local Assistance Programs, National Park Service, 1849 C Street NW., Mail Stop 2225, Washington, DC 20240 (mail) or phone: 202-354-6914. You are entitled to a copy of the ICR packages free of charge.

SUPPLEMENTARY INFORMATION: Congress passed the Urban Park and Recreation Recovery (UPARR) Act (16 U.S.C. 2501 et seq.) as Title X of the National Parks and Recreation Act of 1978. The UPARR Act authorized the Secretary of the Interior to establish a grant program to help physically and economically distressed urban areas improve recreation opportunities for their residents. We administer the UPARR program in accordance with regulations at 36 CFR 72. While the program has remained authorized, it has not been funded since Fiscal Year 2002. It may receive funding in the future, and we are seeking renewal of the following information collections associated with the UPARR program:

1. Performance Reports

Title: Urban Park and Recovery Project Performance Report, 36 CFR 72.

OMB Control Number: 1024-0028.

Type of Request: Extension of a currently approved collection of information.

Brief Description of Collection: Project Performance Reports include the scheduled completion date, percent completed to date, and percent to be completed at the end of next report period. We also ask for the percent of costs expended to date and the percent of costs to be expended by the end of the next reporting period. Reasons for delays or cost adjustments are described in the report. We use the information: (1) To monitor against possible waste, fraud, and abuse; (2) for billing and audit purposes; and (3) to prepare reports to Congress as necessary.

Affected Public: Local governments.

Obligation to Respond: Required to obtain or retain a benefit.

Frequency of Response: Annually for active grants.

Estimated Total Annual Responses: 1.

Estimated Completion Time per Response: 1 hour.

Estimated Total Annual Burden Hours: 1 hour.

2. Conversion of Use Provisions

Title: Urban Park and Recovery Program Conversion of Use Provisions, 36 CFR 72.

OMB Control Number: 1024-0048.

Type of Request: Extension of a currently approved collection of information.

Brief Description of Collection: In accordance with Section 1010 of the UPARR Act and 36 CFR 72.72, no property improved or developed with UPARR assistance can be converted to other than public recreation uses without the advance approval of the NPS. The grant recipient (urban cities and counties) must submit a formal request to the appropriate NPS Regional Office documenting that: (a) All alternatives to the conversion have been evaluated and then rejected on a sound basis; (b) required replacement land being offered as a substitute is of reasonably equivalent location and recreational usefulness as the assisted site proposed for conversion; and (c) the property for substitution meets the eligibility requirements for UPARR assistance. Documentation must include maps identifying the assisted sites, the area to be converted, and the proposed replacement property.

Affected Public: Local governments.

Obligation to Respond: Required to obtain or retain a benefit.

Frequency of Response: On occasion.

Estimated Total Annual Responses: 1.

Estimated Completion Time per Response: 25 hours.

Estimated Total Annual Burden Hours: 25 hours.

3. Grant Agreement and Amendment

Title: Urban Park and Recovery Grant Agreement and Amendment, 36 CFR 72.

OMB Control Number: 1024-0089.

Service Form Numbers: 10-912 and 10-915.

Type of Request: Extension of a currently approved collection of information.

Brief Description of Collection: In order to receive financial assistance, grant respondents must complete and sign the UPARR Program Grant Rehabilitation and Innovation Agreement (Form # 10-912). To alter this agreement, they must complete and sign the Amendment to UPARR Grant Agreement (Form # 10-915). The forms set forth the obligations assumed by the grantee when accepting Federal assistance, including the rules and regulations applicable to the conduct of a project under the UPARR Act and any special terms and conditions established by the NPS and agreed to by the respondent.

Affected Public: Local governments.

Obligation to Respond: Required to obtain or retain a benefit.

Frequency of Response: On occasion.

Estimated Total Annual Responses: 2 (one for each form).

Estimated Completion Time per Response: 1 hour.

Estimated Total Annual Burden Hours: 2 hours.

We published the following notices in the Federal Register announcing our intention to renew these ICRs and soliciting public comments for 60 days:

• OMB Control No. 1024-0028—notice published on April 5, 2010 (75 FR 17153) with public comment period open through June 4, 2010.

• OMB Control No. 1024-0048—notice published on April 21, 2010 (75 FR 20857) with public comment period open through June 21, 2010.

• OMB Control No. 1024-0089—notice published on March 18, 2010 (75 FR 13138) with public comment period open through May 17, 2010.

We did not receive any comments in response to the above notices. We again invite comments on: (1) The practical utility of the information being gathered; (2) the accuracy of the burden hour estimate; (3) ways to enhance the quality, utility, and clarity of the information to be collected; and (4) ways to minimize the burden to respondents, including the use of automated information collection techniques or other forms of information technology. Before including your address, phone number, e-mail, or other personal identifying information in your comment, you should be aware that your entire comment—including your personal identifying information—may be made publicly available at any time. While you can ask us in your comment to withhold your personal identifying information from public review, we cannot guarantee that we will be able to do so.

August 6, 2010.
Cartina Miller,
NPS Information Collection Officer.

[FR Doc. 2010-19864 Filed 8-11-10; 8:45 am]

BILLING CODE 4312-52-P